DEPARTMENT OF JUSTICE

Antitrust Division

Notice Pursuant to the National Cooperative Research and Production Act of 1993—National Armaments Consortium

Notice is hereby given that, on May 22, 2014, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Andrews Space, Tukwila, WA; CMA Technologies, Inc., Orlando, FL; Colorado Photopolymer Solutions, LLC, Boulder, CO; Copperhead Chemical Company Inc., Tamaqua, PA; CPS Technologies Corporation, Norton, MA; Custom Electronics, Inc., Oneonta, NY; Decatur Mold Tool & Engineering, Inc., North Vernon, IN; Dynamic Air Engineering, Inc., Santa Ana, CA; Dynamics Research Corporation (DRC), Andover, MA; Expal USA, Inc., Marshall, TX; FN Manufacturing LLC, Columbia, SC; Maryland Aerospace, Inc., Crofton, MD; Microcosm, Inc., Hawthorne, CA; Middle Forge Consulting LLC, Rockaway, NJ; NanoElectromagnetics LLC, Columbia, MO; Noble Plastics Inc., Grand Coteau, LA; Nobles Worldwide, Inc., Saint Croix Falls, WI; Northeastern Energetic Process Services Co, LLC, Berlin, CT; Orbis Sibro, Inc., Mt. Pleasant, SC; Polymer Technologies, Inc., Clifton, NJ; QuesTek Innovations LLC, Evanston, IL; REL, Inc., Calumet, MI; Sechan Electronics, Lititz, PA; Seton Hall University, South Orange, NJ; Solidica, Inc., Ann Arbor, MI; Soligie, Inc., Savage, MN; Southwest Research Institute, San Antonio, TX; Technovative Applications, Brea, CA; The University of Tennessee, Knoxville, TN; TLC Precision Wafer Technology Inc., Minneapolis, MN; and Wireless Technology Associates, Inc., Setauket, NY, have been added as parties to this venture. Also, Applied Energetics, Inc., Tucson, AZ; Arlington Machine and Tool Co., Fairfield, NJ; C-2 Innovations, Inc., Stow, MA; Cerebrus Corporation, Morris Plains, NJ; Chemring Energetic Devices, Downers Grove, IL; Conax Florida Corporation, St. Petersburg, FL; DSE, Inc., Tampa, FL; Lund & Company Invention LLC, River Forest, IL; nLIGHT Photonics Corporation, Vancouver, WA; Nu-Way Industries, Inc., Des Plaines, IL; Radiance Technologies, Inc., Huntsville, AL; Rocky Research, Boulder City, NV; Simulations, LLC, Simsbury, CT; TenCate Advanced Composites, Morgan Hill, CA; The Research Foundation of State University of New York, Binghamton, NY; and Universal Propulsion Company, Inc., Fairfield, CA, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on February 6, 2014. A notice was published in the Federal Register pursuant to Section 6(b) of the Act on March 13, 2014 (79 FR 14294).

Patricia A. Brink,
Director of Civil Enforcement, Antitrust Division.

[FR Doc. 2014-14293 Filed 6-18-14; 8:45 am]

BILLING CODE P